DEPARTMENT OF HOMELAND SECURITY

Coast Guard

33 CFR Part 110

[Docket No. USCG-2014-0142]

RIN 1625-AA01

Anchorage Regulations; Special Anchorage Areas, Marina del Rey Harbor, California

AGENCY: Coast Guard, DHS.

ACTION: Notice of public meeting; request for comments and change in comment period.

SUMMARY: The Coast Guard announces a public meeting to receive comments on a supplemental notice of proposed rulemaking (NPRM) to revise the special anchorage in Marina del Rey Harbor, California. Based on the comments received in response to the NPRM that was published in the Federal Register on May 28, 2014, we published a supplemental NPRM proposing to amend the shape and reduce the size of the special anchorage in Marina del Rey Harbor, California. Additionally, we propose to clarify the language in the note section of the existing regulation.

DATES: A public meeting will be held on Tuesday, April 12, 2016, from 6 to 7:30 p.m. to provide an opportunity for oral comments. Written comments and related material may also be submitted to Coast Guard personnel specified at that meeting. The comment period for the supplemental notice of proposed rulemaking will close April 30, 2016. All comments and related material must be received by the Coast Guard on or before April 30, 2016.

ADDRESSES: The public meeting will be held at Burton W. Chace Park Community Room, 13650 Midanao Way, Marina del Rey, CA 90292, telephone 310-305-9595.

You may submit written comments identified by docket number USCG-2014-0142 using the Federal eRulemaking Portal at http://www.regulations.gov.

FOR FURTHER INFORMATION CONTACT: If you have questions concerning the meeting or the proposed rule, please call or email Lieutenant Junior Grade Colleen Patton Waterways Management Branch, Eleventh Coast Guard District, telephone 510-437-5984, email Colleen.M.Patton@uscg.mil.

SUPPLEMENTARY INFORMATION:

Background and Purpose

We published a notice of proposed rulemaking (NPRM) in the Federal Register on May 28, 2014 (79 FR 30509), entitled “Anchorage Regulations: Subpart A—Special Anchorage Areas, Marina del Rey Harbor, California.” That NPRM proposed to disestablish the special anchorage area. In response to comments received, we published a supplemental NPRM (81 FR 10156, February 29, 2016) to retain the special anchorage, but amend the shape and reduce the size of the anchorage to remove the anchorage area from a location where it could endanger vessel traffic. We have concluded that a public meeting would aid this rulemaking. Therefore, we are publishing this document announcing a public meeting and changing the end of the comment period from April 14, 2016, to April 30, 2016.

You may view the supplemental NPRM in our online docket, in addition to supporting documents prepared by the Coast Guard and comments submitted thus far by going to http://www.regulations.gov. Once there, insert “USCG-2014-0142” in the “Keyword” box and click “Search.”

We encourage you to participate in this rulemaking by submitting comments either orally at the meeting or in writing. If you bring written comments to the meeting, you may submit them to Coast Guard personnel specified at the meeting to receive written comments. These comments will be submitted to our online public docket. All comments received will be posted without change to http://www.regulations.gov and will include any personal information you have provided.

Comments submitted after the meeting must reach the Coast Guard on or before April 30, 2016. We encourage you to submit comments through the Federal eRulemaking Portal at http://www.regulations.gov. If your material cannot be submitted using http://www.regulations.gov, contact the person in the FOR FURTHER INFORMATION CONTACT section of this document for alternate instructions.

Anyone can search the electronic form of comments received into any of our dockets by the name of the individual submitting the comment (or signing the comment, if submitted on behalf of an association, business, labor union, etc.). You may review a Privacy Act notice regarding our public dockets in the March 24, 2005, issue of the Federal Register (70 FR 15086).

Information on Service for Individuals With Disabilities

For information on facilities or services for individuals with disabilities or to request special assistance at the public meeting, contact Lieutenant Junior Grade Colleen Patton at the telephone number or email address indicated under the FOR FURTHER INFORMATION CONTACT section of this notice.

Public Meeting

The Coast Guard will hold a public meeting regarding its “Anchorage Regulations: Subpart A—Special Anchorage Areas, Marina del Rey Harbor, California” proposed rule on Tuesday, April 12, 2016 from 6 p.m. to 7:30 p.m., at Burton W. Chace Park Community Room, 13650 Mindanao Way, Marina del Rey, CA 90292, telephone 310-305-9595. Public parking lots are available on a pay basis. For Public transit information to the Community Room, contact the Los Angeles County Metropolitan Transportation Authority (Metro) at 323-466-3876 or search at http://www.metro.net for additional information. We will provide a written summary of the meeting and additional comments received at the meeting in the docket. The meeting may conclude before the allotted time if all who have come to submit oral comments have done so before 7:30 p.m.

Dated: March 24, 2016.
J.A. Servidio,
Rear Admiral, U.S. Coast Guard, Commander, Eleventh Coast Guard District.

[FR Doc. 2016-09171 Filed 4-19-16; 8:45 am]

BILLING CODE 9110-04-P